DEPARTMENT OF STATE

[Public Notice 4584]

Presentation of DRAFT Report by Professor David Martin “ The U.S. Refugee Admissions Program: Reforms for a New Era of Refugee Resettlement.

SUMMARY: Professor David Martin will brief on his findings and on his draft report on Friday, February 6, 2004, from 1 p.m. to 3 p.m. Both documents are accessible at http://www.state.gov/g/prm/refadm/rls/rpts/2003/28258.htm (Draft Summary of Principal Findings); http://www.state.gov/g/prm/refadm/rls/rpts/2003/28257.htm (Draft Report). The meeting will be held at the Refugee Processing Center, 1401 Wilson Boulevard, Suite 700, Arlington, VA. The meeting's purpose is twofold: (1) Presentation of the draft report by Professor Martin, and (2) audience comments, suggestions and questions. Public input will be given careful consideration in preparation of the final report.

Seating is limited. Persons wishing to attend this meeting must notify the Bureau of Population, Refugees, and Migration at (202) 663-1481 by 5 p.m. (e.s.t.) Tuesday, February 3, 2004 (no exceptions), to arrange for admission (please provide full name and organization). Persons wishing to present oral comments at the open portion of the meeting or to submit written comments for consideration must provide them in writing by 5 p.m. (e.s.t.) February 3, 2004 (again, no exceptions). All comments may be faxed to (202) 663-1002 or to gaertnernr@state.gov.

Dated: January 21, 2004.
Margaret Pollack,
Director, Multilateral Coordination and External Relations, Bureau of Population, Refugees, and Migration, Department of State.

[FR Doc. 04-1688 Filed 1-26-04; 8:45 am]

BILLING CODE 4710-33-P